DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons and vessels that have been placed on OFAC's Specially Designated Nationals and Blocked Persons List based on OFAC's determination that one or more applicable legal criteria were satisfied. All property and interests in property subject to U.S. jurisdiction of these persons, and these vessels, are blocked, and U.S. persons are generally prohibited from engaging in transactions with them.

DATES: See SUPPLEMENTARY INFORMATION section.

FOR FURTHER INFORMATION CONTACT: OFAC: Associate Director for Global Targeting, tel.: 202-622-2420; Assistant Director for Sanctions Compliance & Evaluation, tel.: 202-622-2490; Assistant Director for Licensing, tel.: 202-622-2480; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (www.treasury.gov/ofac).

Notice of OFAC Action(s)

A. On January 24, 2018, OFAC determined that the property and interests in property subject to U.S. jurisdiction of the following persons, and the following vessels subject to U.S. jurisdiction, are blocked pursuant to the relevant sanctions authorities listed below. Dealings in property subject to U.S. jurisdiction in which a person identified as Government of North Korea has an interest are prohibited effective as of the date of that status, which may be earlier than the date of OFAC's determination.

Individuals

1. KIM, Song (a.k.a. KIM, So'ng), Linjiang, China; DOB 11 Jan 1964; nationality Korea, North; Gender Male; Representative of the Korea Ryonbong General Corporation in Linjiang, China (individual) [DPRK2].

Designated pursuant to section 1(a)(iii) of Executive Order 13687 of January 2, 2015, “Imposing Additional Sanctions With Respect to North Korea” (E.O. 13687) for being an official of the Workers' Party of Korea.

2. RYANG, Tae Chol (a.k.a. RYANG, Tae-ch'o'l), Tumen, China; DOB 07 Jan 1969; nationality Korea, North; Gender Male; Representative of the Korea Ryonbong General Corporation in Tumen, China (individual) [DPRK2].

Designated pursuant to section 1(a)(iii) of E.O. 13687 for being an official of the Workers' Party of Korea.

3. PAK, Kwang Hun (a.k.a. BAK, Gwang Hun; a.k.a. PAK, Gwang Hun; a.k.a. PAK, Kwang-hun), Vladivostok, Russia; DOB 01 Jan 1970 to 31 Dec 1970; nationality Korea, North; Gender Male; Representative of Korea Ryonbong General Corporation in Vladivostok, Russia (individual) [DPRK2].

Designated pursuant to section 1(a)(iii) of E.O. 13687 for being an official of the Workers' Party of Korea.

4. RI, Myong Hun (a.k.a. RI, Myo'ng-hun), Korea, North; DOB 14 Mar 1969; Gender Male; Passport 381420089 expires 11 Oct 2016 (individual) [DPRK2].

Designated pursuant to section 1(a)(ii) of E.O. 13687 for being an official of the Government of North Korea.

5. HAN, Kwon U (a.k.a. HAN, Kon U; a.k.a. HAN, Ko'n-u; a.k.a. HAN, Kwo'n-u), Zhuhai, China; DOB 21 Aug 1962; Passport 745434880; Korea Ryonbong General Corporation Representative in Zhuhai, China (individual) [DPRK2].

Designated pursuant to section 1(a)(iii) of E.O. 13687 for being an official of the Workers' Party of Korea.

6. KIM, Kyong Hak (a.k.a. KIM, Kyo'ng-hak), Zhuhai, China; DOB 27 Nov 1973; nationality Korea, North; Passport 654231856; Korea Ryonbong General Corporation Representative in Zhuhai, China (individual) [DPRK2].

Designated pursuant to section 1(a)(iii) of E.O. 13687 for being an official of the Workers' Party of Korea.

7. KIM, Pyong Chan (a.k.a. KIM, Pyo'ng-ch'an), Korea, North; Zhuhai, China; DOB 09 Jun 1961; Workers' Party of Korea Official (individual) [DPRK2].

Designated pursuant to section 1(a)(iii) of E.O. 13687 for being an official of the Workers' Party of Korea.

8. KIM, Ho Kyu (a.k.a. KIM, Ho Gyu; a.k.a. KIM, Ho'-kyu; a.k.a. KIM, Ho-Kyu; a.k.a. PARK, Aleksei), Nakhodka, Russia; DOB 15 Sep 1970; nationality Korea, North; Gender Male; Korea Ryonbong General Corporation Official (individual) [DPRK2].

Designated pursuant to section 1(a)(iii) of E.O. 13687 for being an official of the Workers' Party of Korea.

9. PAK, Tong Sok (a.k.a. PAK, Tong-So'k), Abkhazia, Georgia; DOB 15 Apr 1965; nationality Korea, North; Passport 745120209 (Korea, North) expires 26 Feb 2020; Korea Ryonbong General Corporation Official (individual) [DPRK2].

Designated pursuant to section 1(a)(iii) of E.O. 13687 for being an official of the Workers' Party of Korea.

10. JONG, Man Bok (a.k.a. CHO'NG, Man-pok), Dandong, China; DOB 23 Dec 1958; nationality Korea, North; Gender Male; Korea Ryonbong General Corporation Representative in Dandong, China (individual) [DPRK2].

Designated pursuant to section 1(a)(iii) of E.O. 13687 for being an official of the Workers' Party of Korea.

11. KIM, Man Chun (a.k.a. KIM, Man-ch'un), No. 567 Xinshi Street, Linjiang City, China; DOB 25 May 1966; nationality Korea, North; Gender Male; Passport PS654320308; Korea Ryonbong General Corporation Representative in Linjiang, China (individual) [DPRK2].

Designated pursuant to section 1(a)(iii) of E.O. 13687 for being an official of the Workers' Party of Korea.

12. RI, Tok Jin (a.k.a. RI, To'k-chin), Ji'an, China; DOB 26 Jul 1957; nationality Korea, North; Korea Ryonbong General Corporation Representative in Ji'an, China (individual) [DPRK2].

Designated pursuant to section 1(a)(iii) of E.O. 13687 for being an official of the Workers' Party of Korea.

13. CHOE, Song Nam (a.k.a. CH'OE, So'ng-nam), Shenyang, China; DOB 07 Jan 1979; Passport 563320192 expires 09 Aug 2018; Daesong Bank Representative (individual) [DPRK4].

Designated pursuant to section 1(a)(i) of Executive Order 13810 of September 20, 2017, “Imposing Additional Sanctions With Respect to North Korea” (E.O. 13810) for operating in the financial services industry in North Korea.

14. KIM, Chol (a.k.a. KIM, Ch'o'l), Dalian, China; DOB 27 Sep 1964; Korea United Development Bank representative (individual) [DPRK4].

Designated pursuant to section 1(a)(i) of E.O. 13810 for operating in the financial services industry in North Korea.

15. Ko, Il Hwan (a.k.a. KO, Il-hwan), Shenyang, China; DOB 28 Aug 1967; nationality Korea, North; Gender Male; Passport 927220424 expires 12 Jun 2022; Korea Daesong Bank official (individual) [DPRK4].

Designated pursuant to section 1(a)(i) of E.O. 13810 for operating in the financial services industry in North Korea.

16. PAEK, Jong Sam (a.k.a. PAEK, Chong-sam), Shenyang, China; DOB 17 Jan 1964; nationality Korea, North (individual) [DPRK4].

Designated pursuant to section 1(a)(i) of E.O. 13810 for operating in the financial services industry in North Korea.

Entities

1. MINISTRY OF CRUDE OIL INDUSTRY (a.k.a. CRUDE OIL INDUSTRY MINISTRY; a.k.a. GENERAL BUREAU OF PETROLEUM INDUSTRY; a.k.a. MINISTRY OF CRUDE OIL), Pyongyang, Korea, North [DPRK3].

Identified as meeting the definition of the Government of North Korea as set forth in section 9(d) of Executive Order 13722 of March 15, 2016, “Blocking Property of the Government of North Korea and the Workers' Party of Korea, and Prohibiting Certain Transactions With Respect to North Korea” (E.O. 13722).

2. HANA ELECTRONICS JVC (a.k.a. HANA ELECTRONIC JV COMPANY; a.k.a. HANA ELECTRONICS), PYONGYANG, Korea, North [DPRK4].

Designated pursuant to section 1(a)(i) of E.O. 13810 for operating in the manufacturing industry in North Korea.

3. BEIJING CHENGXING TRADING CO. LTD. (Chinese Simplified: 5317; 4EAC; 5174; 8D38; 6613; 709; 9650; 516C; 53F8;), Room 2206 Floor 19, 602 Wangjing Yuan, Zhaoyang District, Beijing, China [DPRK4].

Designated pursuant to section 1(a)(iii) of E.O. 13810 for having engaged in at least one significant importation from or exportation to North Korea of any goods, services, or technology.

4. DANDONG JINXIANG TRADE CO., LTD. (a.k.a. CHINA DANDONG KUMSANG TRADE COMPANY, LIMITED; a.k.a. DANDONG METAL COMPANY; a.k.a. JINXIANG TRADING COMPANY), Room 303, Unit 2, Building Number 3, Number 99 Binjiang Lu (Road), Zhenxing District, Dandong, China; Room 303-01, Number 99-3, Binjiang Zhong Lu (Road), Dandong, China; Number 5, Tenth Street, Zhenxing District, Dandong, Liaoning, China; 245-11, Number 1 Wanlian Road, Shenhe District, Shenyang, China; Room 1101, No B, Jiadi Building, Business and Tourist, China; Room 303, Unit 2, 3 Haolou, Building 99 Binjiang Middle Rd., Zhenxing, Dandong, Liaoning 118000, China; Nationality of Registration China [DPRK4].

Designated pursuant to section 1(a)(iii) of E.O. 13810 for having engaged in at least one significant importation from or exportation to North Korea of any goods, services, or technology.

5. CK INTERNATIONAL LTD, c/o Korea Uljibong Shipping Co., Jongbaek 1-dong, Rakrang-guyok, Pyongyang, Korea, North; Room 9, Unit A, 3rd Floor, Cheong Sun Tower, 116-118, Wing Lok Street, Sheung Wan, Hong Kong; Company Number IMO 5980332 [DPRK4].

Designated pursuant to section 1(a)(i) of E.O. 13810 for operating in the transportation industry in North Korea.

6. GOORYONG SHIPPING CO LTD (f.k.a. GOORYONG SHIPPING BANGKOK), Changgyong 2-dong, Sosong-guyok, Pyongyang, Korea, North; Warranton Ville 458Soi 5Pattanakan Soi 44Suanluang, Bangkok 10250, Thailand; Company Number IMO 5055293 [DPRK4].

Designated pursuant to section 1(a)(i) of E.O. 13810 for operating in the transportation industry in North Korea.

7. HWASONG SHIPPING CO LTD, Changgyong dong, Sosong-guyok, Pyongyang, Korea, North; Company Number IMO 543400 [DPRK4].

Designated pursuant to section 1(a)(i) of E.O. 13810 for operating in the transportation industry in North Korea.

8. KOREA KUMUNSAN SHIPPING CO, Pongnam-dong, Pyongchon-guyok, Pyongyang, Korea, North; Company Number IMO 5110478 [DPRK4].

Designated pursuant to section 1(a)(i) of E.O. 13810 for operating in the transportation industry in North Korea.

9. KOREA MARINE & INDUSTRIAL TRDG (a.k.a. KOREA MARINE AND INDUSTRIAL TRDG), Changgyong 2-dong, Sosong-guyok, Pyongyang, Korea, North; Company Number IMO 5928635 [DPRK4].

Designated pursuant to section 1(a)(i) of E.O. 13810 for operating in the transportation industry in North Korea.

Vessels

1. EVER GLORY Democratic People's Republic of Korea flag; Vessel Registration Identification IMO 8909915 (vessel) [DPRK4] (Linked To: KOREA MARINE & INDUSTRIAL TRDG).

Identified pursuant to E.O. 13810 as property in which KOREA MARINE & INDUSTRIAL TRDG, a person whose property and interests in property are blocked pursuant to E.O. 13810, has an interest.

2. GOO RYONG Democratic People's Republic of Korea flag; Vessel Registration Identification IMO 8201870 (vessel) [DPRK4] (Linked To: GOORYONG SHIPPING CO LTD).

Identified pursuant to E.O. 13810 as property in which GOORYONG SHIPPING CO LTD, a person whose property and interests in property are blocked pursuant to E.O. 13810, has an interest.

3. HWA SONG Democratic People's Republic of Korea flag; Vessel Registration Identification IMO 8217685 (vessel) [DPRK4] (Linked To: HWASONG SHIPPING CO LTD).

Identified pursuant to E.O. 13810 as property in which HWASONG SHIPPING CO LTD, a person whose property and interests in property are blocked pursuant to E.O. 13810, has an interest.

4. KUM UN SAN Democratic People's Republic of Korea flag; Vessel Registration Identification IMO 8720436 (vessel) [DPRK4] (Linked To: KOREA KUMUNSAN SHIPPING CO).

Identified pursuant to E.O. 13810 as property in which KOREA KUMUNSAN SHIPPING CO, a person whose property and interests in property are blocked pursuant to E.O. 13810, has an interest.

5. UL JI BONG 6 Democratic People's Republic of Korea flag; Vessel Registration Identification IMO 9114555 (vessel) [DPRK4] (Linked To: CK INTERNATIONAL).

Identified pursuant to E.O. 13810 as property in which CK INTERNATIONAL, a person whose property and interests in property are blocked pursuant to E.O. 13810, has an interest.

6. UN RYUL Democratic People's Republic of Korea flag; Vessel Registration Identification IMO 8514409 (vessel) [DPRK4] (Linked To: KOREA MARINE & INDUSTRIAL TRDG).

Identified pursuant to E.O. 13810 as property in which KOREA MARINE & INDUSTRIAL TRDG, a person whose property and interests in property are blocked pursuant to E.O. 13810, has an interest.

B. On January 24, 2018, OFAC published the following revised identifier information for one individual and one entity on OFAC's Specially Designated Nationals and Blocked Persons List whose property and interests in property are blocked pursuant to E.O. 13722:

1. HUISH, Irina Igorevna (a.k.a. BURLOVA, Irina), Russia; South Africa; DOB 18 Jan 1973; Gender Female (individual) [DPRK3] (Linked To: VELMUR MANAGEMENT PTE LTD).

2. HANA BANKING CORPORATION LTD (a.k.a. BRILLIANCE BANKING CORPORATION, LTD.; a.k.a. GORGEOUS BANK OF NORTH KOREA; a.k.a. HUALI BANK (Chinese Simplified: 671D; 9C9C; 534E; 4E3D; 94F6; 884C;); a.k.a. HWARYO BANK (Korean:D654; B824;D589;)), Haebangsan Hotel, Jungsong-Dong, Sungri Street, Central District, Pyongyang, Korea, North; Dandong, China; SWIFT/BIC BRBKKPP1XXX [DPRK3].

Dated: January 29, 2018.
John E. Smith,
Director, Office of Foreign Assets Control.

[FR Doc. 2018-02002 Filed 1-31-18; 8:45 am]

BILLING CODE 4810-AL-P